DEPARTMENT OF THE INTERIOR

Fish and Wildlife Service

[FWS-HQ-IA-2012-N203; FXIA16710900000P5-123-FF09A30000]

Endangered Species; Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibits activities with listed species unless Federal authorization is acquired that allows such activities.

DATES: We must receive comments or requests for documents on or before September 17, 2012.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken.

III. Permit Applications

A. Endangered Species

Applicant: Hahn Laboratory, University of Pennsylvania School of Medicine, Philadelphia, PA; PRT-77720A

The applicant requests a permit to import chimpanzee (Pan troglodytes) biological samples from Congo for the purpose of enhancement to the survival of the species. This notification covers activities to be conducted by the applicant over a 5-year period.

Applicant: Kansas O Bar Ranch LLC, Woodward, OK; PRT-79771A

The applicant requests a captive-bred wildlife registration under 50 CFR 17.21(g) for the scimitar-horned oryx (Oryx dammah) and addax (Addax nasomaculatus) to enhance their propagation or survival. This notification covers activities to be conducted by the applicant over a 5-year period.

Applicant: Kansas O Bar Ranch LLC, Woodward, OK; PRT-79770A

The applicant requests a permit authorizing interstate and foreign commerce, export, and cull of excess scimitar-horned oryx (Oryx dammah) and addax (Addax nasomaculatus) from the captive herd maintained at their facility, for the purpose of enhancement of the survival of the species. This notification covers activities to be conducted by the applicant over a 5-year period.

Applicant: Rancho Milagro, San Diego, TX; PRT-80160A

The applicant requests a captive-bred wildlife registration under 50 CFR 17.21(g) for the scimitar-horned oryx (Oryx dammah) to enhance their propagation or survival. This notification covers activities to be conducted by the applicant over a 5-year period.

Applicant: Rancho Milagro, San Diego, TX; PRT-80158A

The applicant requests a permit authorizing interstate and foreign commerce, export, and cull of excess scimitar-horned oryx (Oryx dammah) from the captive herd maintained at their facility, for the purpose of enhancement of the survival of the species. This notification covers activities to be conducted by the applicant over a 5-year period.

Applicant: Kyle Lange, Mertzon, TX; PRT-80202A

The applicant requests a captive-bred wildlife registration under 50 CFR 17.21(g) for the scimitar-horned oryx (Oryx dammah) and addax (Addax nasomaculatus) to enhance their propagation or survival. This notification covers activities to be conducted by the applicant over a 5-year period.

Applicant: Kyle Lange, Mertzon, TX; PRT-80201A

The applicant requests a permit authorizing interstate and foreign commerce, export, and cull of excess scimitar-horned oryx (Oryx dammah) and addax (Addax nasomaculatus) from the captive herd maintained at their facility, for the purpose of enhancement of the survival of the species. This notification covers activities to be conducted by the applicant over a 5-year period.

Applicant: Paul Dickson, Shreveport, LA; PRT-80109A

The applicant requests a captive-bred wildlife registration under 50 CFR 17.21(g) for Cabot's tragopan (Tragopan caboti) to enhance their propagation or survival. This notification covers activities to be conducted by the applicant over a 5-year period.

Applicant: Marc Cramer, San Jose, CA; PRT-81021A

The applicant requests a captive-bred wildlife registration under 50 CFR 17.21(g) for spotted pond turtle (Geoclemys hamiltonii) to enhance their propagation or survival. This notification covers activities to be conducted by the applicant over a 5-year period.

Applicant: Nancy Speed, Benton, MS; PRT-793116

The applicant requests renewal of their captive-bred wildlife registration under 50 CFR 17.21(g) for the Cuban Amazon (Amazona leucocephala), vinaceous Amazon (Amazona vinacea), and golden parakeet (Aratinga guarouba) to enhance their propagation or survival. This notification covers activities to be conducted by the applicant over a 5-year period.

Applicant: Karl Mogensen, Natural Bridge, VA; PRT-33472A

The applicant requests amendment of their captive-bred wildlife registration under 50 CFR 17.21(g) to include the family Bovidae, to enhance their propagation or survival. This notification covers activities to be conducted by the applicant over a 5-year period.

Applicant: Robert Scott, Ocotillo, CA; PRT-128506

The applicant requests renewal of their captive-bred wildlife registration under 50 CFR 17.21(g) for the Galapagos tortoise (Chelonoidis nigra) and radiated tortoise (Astrochelys radiate) to enhance their propagation or survival. This notification covers activities to be conducted by the applicant over a 5-year period.

Applicant: Paul Bodnar, Cuyahoga Falls, OH; PRT-030006

The applicant requests renewal and amendment of their captive-bred wildlife registration under 50 CFR 17.21(g) for the following species, to enhance their propagation or survival. This notification covers activities to be conducted by the applicant over a 5-year period.

Species:

African dwarf crocodile (Osteolaemus tetraspis)

Chinese alligator (Alligator sinensis)

Cuban crocodile (Crocodylus rhombifer)

Siamese crocodile (Crocodylus siamensis)

Morelet's crocodile (Crocodylus moreletii)

False gavial (Tomistoma schlegelii)

Yacare (Caiman yacare)

Galapagos tortoise (Chelonoidis nigra)

Radiated tortoise (Astrochelys radiata)

Indian python (Python molurus molurus)

Applicant: Fort Wayne Zoological Society, Fort Wayne, IN; PRT-671564

The applicant requests renewal and amendment of their captive-bred wildlife registration under 50 CFR 17.21(g) for the following families, genus, and species, to enhance their propagation or survival. This notification covers activities to be conducted by the applicant over a 5-year period.

Families:

Cebidae

Cercopithecidae

Felidae (does not include jaguar, margay or ocelot)

Hominidae

Lemuridae

Macropodidae

Ciconiidae (does not include wood stork)

Psittacidae (does not include thick-billed parrot)

Spheniscidae

Sturnidae (does not include Aplonis pelzelni)

Testudinidae

Varanidae

Species:

African wild dog (Lycaon pictus)

Applicant: Joseph Patinio, Mililani, HI; PRT-80510A

The applicant requests a captive-bred wildlife registration under 50 CFR 17.21(g) for the Galapagos Tortoise (Chelonoidis nigra) to enhance their propagation or survival. This notification covers activities to be conducted by the applicant over a 5-year period.

Applicant: Alexandria Rosati, Cambridge, MA; PRT-72061A

The applicant requests a permit to collect saliva for hormonal analyses, from common chimpanzee (Pan troglodytes) from 151 animals, wild and captive-bred for the purpose of enhancement of the survival of the species and scientific research. This notification covers activities to be conducted by the applicant over a 3-month period.

Multiple Applicants

The following applicants each request a permit to import the sport-hunted trophy of one male bontebok (Damaliscus pygargus pygargus) culled from a captive herd maintained under the management program of the Republic of South Africa, for the purpose of enhancement of the survival of the species.

Applicant: Don Dahlgren, Oklahoma City, OK; PRT-80165A

Applicant: Silas Blanton, Glen St. Mary, FL; PRT-81166A

Applicant: Jon Lee, Missoula, MT; PRT-80535A

Applicant: Richard Haskins, Hillsborough, CA; PRT-80923A

Applicant: David Kjelstrup, Underwood, ND; PRT-81313A

Applicant: Billy Elbert, Klamath Falls, OR; PRT-81986A

Applicant: Steven Sullivan, Oklahoma City, OK; PRT-80043A

Applicant: Michelle Crawford, Sugarland, TX; PRT-81167A

Brenda Tapia,
Program Analyst/Data Administrator, Branch of Permits, Division of Management Authority.

[FR Doc. 2012-20176 Filed 8-15-12; 8:45 am]

BILLING CODE 4310-55-P